NATIONAL TRANSPORTATION SAFETY BOARD

Sunshine Act Meeting

Agenda

TIME AND DATE: 9:30 a.m., Tuesday, September 9, 2014.

PLACE: NTSB Conference Center, 429 L'Enfant Plaza SW., Washington, DC 20594.

STATUS: The two items are open to the public.

MATTERS TO BE CONSIDERED:

8533A Aircraft Accident Report—Crash During a Nighttime Nonprecision Instrument Approach to Landing, UPS flight 1354, Airbus A300, N155UP, Birmingham, Alabama, August 14, 2013.

8565A Safety Study on Drug Use Trends in Aviation: Assessing the Risk of Pilot Impairment and Safety Alert about Understanding Impairment Risk.

NEWS MEDIA CONTACT: Telephone: (202) 314-6100.

The press and public may enter the NTSB Conference Center one hour prior to the meeting for set up and seating.

Individuals requesting specific accommodations should contact Rochelle Hall at (202) 314-6305 or by email at Rochelle.Hall@ntsb.gov by Wednesday, September 3, 2014.

The public may view the meeting via a live or archived webcast by accessing a link under “News & Events” on the NTSB home page at www.ntsb.gov.

Schedule updates, including weather-related cancellations, are also available at www.ntsb.gov.

FOR MORE INFORMATION CONTACT: Candi Bing, (202) 314-6403 or by email at bingc@ntsb.gov.

FOR MEDIA INFORMATION CONTACT: Eric Weiss, (202) 314-6100 or by email at eric.weiss@ntsb.gov for information regarding the UPS Flight 1354 accident. Please contact Peter Knudson, (202) 314-6100 or by email at peter.knudson@ntsb.gov for information regarding the Safety Study on Drug Use Trends in Aviation.

Dated: Friday, August 22, 2014.
Candi R. Bing,
Federal Register Liaison Officer.

[FR Doc. 2014-20478 Filed 8-25-14; 11:15 am]

BILLING CODE 7533-01-P